DEPARTMENT OF DEFENSE

Office of the Secretary

[Transmittal No. 19-73]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-73 with attached Policy Justification and Sensitivity of Technology.

Dated: July 10, 2020.
Aaron T. Siegel,
Alternate OSD Federal Register Liaison Officer, Department of Defense.

BILLING CODE 5001-06-P

BILLING CODE 5001-06-C

Transmittal No. 19-73

Notice of Proposed Issuance of Letter of Offer Pursuant to Section 36(b)(1) of the Arms Export Control Act, as Amended

(i) Prospective Purchaser: Government of Hungary

(ii) Total Estimated Value:

Major Defense Equipment * | $190 million
Other | $ 40 million
Total | $230 million

(iii) Description and Quantity or Quantities of Articles or Services under Consideration for Purchase:

Major Defense Equipment (MDE):

Sixty (60) AIM-120C-7/C-8 Advanced Medium Range Air-to-Air Missiles Extended Range (AMRAAM-ER)

Two (2) AIM-120C-7/C-8 AMRAAM-ER Guidance Sections

Non-MDE:

Also included are four (4) AMRAAM-ER training missiles (CATM-120C); missile containers; spare and repair parts; cryptographic and communication security devices; precision navigation equipment; software, site surveys; weapons system equipment and computer software support; publications and technical documentation; common munitions and test equipment; repair and return services and equipment; personnel training and training equipment; integration support and test equipment; and U.S. Government and contractor, engineering, technical and logistics support services; and other related elements of logistical and program support.

(iv) Military Department: Air Force (HU-D-YAE)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: May 8, 2020

* As defined in Section 47(6) of the Arms Export Control Act.

POLICY JUSTIFICATION

Hungary—Advanced Medium Range Air-to-Air Missiles Extended Range (AMRAAM-ER)

The Government of Hungary has requested to buy sixty (60) AIM-120C-7/C-8 AMRAAMER missiles, and two (2) spare AIM-120C-7/C-8 AMRAAM-ER guidance sections. Also included are four (4) AMRAAM-ER training missiles (CATM-120C); missile containers; spare and repair parts; cryptographic and communication security devices; precision navigation equipment; software, site surveys; weapons system equipment and computer software support; publications and technical documentation; common munitions and test equipment; repair and return services and equipment; personnel training and training equipment; integration support and test equipment; and U.S. Government and contractor, engineering, technical and logistics support services; and other related elements of logistical and program support. The total estimated cost is $230 million.

This proposed sale will support the foreign policy and national security of the United States by improving the security of a NATO ally. This sale is consistent with U.S. initiatives to provide key allies in the region with modern systems that will enhance interoperability with U.S forces and increase security.

This proposed sale improves Hungary's defense capability to deter regional threats and strengthen its homeland defense. The sale is in support of Hungary's acquisition of the National Advanced Surface to Air Missile System (NASAMS) air defense system and would provide a full range of protection from imminent hostile cruise missiles, unmanned aerial vehicles, rotary wing and fixed wing threats. This sale will contribute to Hungary's interoperability with the United States and other allies. Hungary should not have any difficulties absorbing this equipment into its armed forces.

The proposed sale of this equipment and support does not alter the basic military balance in the region.

The prime contractor and integrator will be Raytheon Missile Systems, Tucson, AZ. There are no known offset agreements proposed in connection with this potential sale.

Implementation of this proposed sale will not require the assignment of additional U.S. Government and contractor representatives to Hungary.

There will be no adverse impact on U.S. defense readiness as a result of this proposed sale.

Transmittal No. 19-73

Notice of Proposed Issuance of Letter of Offer Pursuant to Section 36(b)(1) of the Arms Export Control Act

Annex

Item No. vii

(vii) Sensitivity of Technology:

1. AIM-120 Advanced Medium Range Air-to-Air Missile Extended Range (AMRAAM-ER) is a medium range ground based air defense missile capable in all-weather against multiple targets in a sophisticated electronic attack environment. AMRAAM-ER utilizes an active C-7 or C-8 seeker and warhead joined with a new control section and rocket motor. This provides extended range and altitude, higher speed and maneuverability, and has been extensively tested and proven. The AIM-120C-8 is a form, fit, function refresh of the AIM-120C-7 and is the next generation to be produced. AIM-120 Captive Air Training Missiles (CATM) are nonfunctioning, inert missile rounds used for armament load training, which simulate the correct size and weight of live missiles.

2. If a technologically advanced adversary were to obtain knowledge of the specific hardware and software elements, the information could be used to develop countermeasures or equivalent systems which might reduce weapon system effectiveness or be used in the development of a system with similar or advanced capabilities.

3. This sale is necessary in furtherance of the U.S. foreign policy and national security objectives outlined in the enclosed Policy Justification. A determination has been made that Hungary can provide the same degree of protection for the sensitive technology being released as the U.S. Government.

4. All defense articles and services listed in this transmittal have been authorized for release and export to Hungary.

[FR Doc. 2020-15508 Filed 7-16-20; 8:45 am]

BILLING CODE 5001-06-P